FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 002206-005.

Title: California Association of Port Authorities—Northwest Marine Terminal Association Terminal Discussion Agreement.

Parties: California Association of Port Authorities and Northwest Marine Terminal Association.

Filing Party: Patti A. Fulghum, Executive Officer; Northwest Marine Terminal Association; PO Box 5684; Bellevue, WA 98006.

Synopsis: The amendment adds Port of Coos Bay as a member to the agreement.

Agreement No.: 009335-006.

Title: Northwest Marine Terminal Association, Inc. Agreement.

Parties: Port of Anacortes; Port of Astoria; Port of Bellingham; Port of Coos Bay; Port of Everett; Port of Grays Harbor; Port of Kalama; Port of Longview; Port of Olympia; Port of Port Angeles; Port of Portland; Port of Seattle; Port of Tacoma; and Port of Vancouver, USA.

Filing Party: Patti A. Fulghum; Executive Officer; Northwest Marine Terminal Association, Inc.; P.O. Box 5684; Bellevue, WA 98006.

Synopsis: The amendment adds Port of Coos Bay as member to the agreement.

Agreement No.: 012005-001.

Title: CSCL/CMA CGM Slot Charter and Cross Slot Charter Agreement on Amerigo Express Service and Victory BridgeAgreement.

Parties: China Shipping Container Lines Co., Ltd.; China Shipping Container Lines (Hong Kong) Co., Ltd.; and CMA CGM, S.A.

Filing Party: Tara L. Leiter, Esq.; Blank Rome, LLP; Watergate; 600 New Hampshire Avenue NW; Washington, DC 20037.

Synopsis: The amendment reduces the number of slots for purchase and modifies the terms and conditions under which Parties will cross charter space.

Agreement No.: 012039.

Title: ELJSA / CSCL NUE Slot Charter Agreement.

Parties: China Shipping Container Lines Co., Ltd.; China Shipping Container Lines (Hong Kong) Co., Ltd.; and Evergreen Line.

Filing Party: Paul M. Keane, Esq.; Cichanowicz, Callan, Keane, Vencrow & Textor, LLP; 61 Broadway, Suite 3000; New York, NY 10006.

Synopsis: Agreement authorizes CSCL to charter space from ELJSA between the U.S. East Coast and ports in Germany, France, Holland, Belgium and the United Kingdom.

Dated: April 11, 2008.
By Order of the Federal Maritime Commission.
Karen V. Gregory,
Assistant Secretary.

[FR Doc. E8-8171 Filed 4-15-08; 8:45 am]

BILLING CODE 6730-01-P